DEPARTMENT OF COMMERCE

National Oceanic and Atmospheric Administration

RIN 0648-XA267

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a meeting of the Standing, Special Mackerel and Special Reef Fish Scientific and Statistical Committees.

DATES: The meeting will convene at 1 pm on Tuesday, March 22, 2011 and conclude by noon on Friday, March 25, 2011.

ADDRESSES: The meeting will be held at the Astor Crowne Plaza Hotel, 739 Canal Street, New Orleans, LA 70130; telephone: (504) 962-0500.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The Standing and Special Mackerel SSC will meet jointly on Tuesday, March 22, 2011 to review the Council's preferred alternative for an acceptable biological catch (ABC) control rule, and then to review available biological information and recommend an overfishing limit (OFL) and ABC for Gulf group king mackerel, Gulf group Spanish mackerel and cobia based on the ABC control rule. The remainder of the meeting will be a joint meeting of the Standing and Special Reef Fish SSC. The Standing and Special Reef Fish SSC will review an update assessment for greater amberjack and recommend an OFL and ABC based on the assessment and the ABC control rule. The SSC will also reconsider its previous recommendation for an ABC for red grouper in light of new analyses that was reviewed by the SSC in January.

The SSC will also recommend OFL and ABC for several data-poor stocks using the ABC control rule, including scamp, yellowedge grouper, yellowtail snapper, hogfish, golden tilefish, mid-water snapper complex (blackfin snapper, silk snapper, Queen snapper, and Wenchman), deep-water grouper complex (warsaw grouper, snowy grouper, misty grouper, and speckled hind), and will reconsider previous recommendations made using an earlier draft of the ABC control rule for lane snapper, tilefish complex (blueline tilefish, anchor tilefish, blackline tilefish, and goldface tilefish), and the amberjacks complex (Almaco jack, banded rudderfish, and lesser amberjack). The SSC will also review potential criteria for removal of selected species from the Reef Fish Fishery Management Plan. The above actions are to assist the Council in preparing a generic amendment to set annual catch limits and accountability measures for stocks under its management. The SSC will also review its previous comments on proposed revisions to the SEDAR stock assessment process and may submit those comments to the SEDAR Steering Committee. The SSC will also review and may recommend changes to the schedule of upcoming SEDAR stock assessments. Finally, the SSC will review proposed dates for scheduling SSC meetings for the remainder of 2011.

Copies of the agenda and other related materials can be obtained by calling (813) 348-1630 or can be downloaded from the Council's ftp site, ftp.gulfcouncil.org.

Although other non-emergency issues not on the agenda may come before the Scientific and Statistical Committees for discussion, in accordance with the Magnuson-Stevens Fishery Conservation and Management Act, those issues may not be the subject of formal action during this meeting. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

This meeting is physically accessible to people with disabilities. Requests for sign language interpretation or other auxiliary aids should be directed to Kathy Pereira at the Council (see ADDRESSES) at least 5 working days prior to the meeting.

Dated: March 2, 2011.
Tracey L. Thompson,
Acting Director, Office of Sustainable Fisheries, National Marine Fisheries Service.

[FR Doc. 2011-5026 Filed 3-4-11; 8:45 am]

BILLING CODE 3510-22-P